DEPARTMENT OF DEFENSE

Office of the Secretary

[Docket ID DOD-2009-OS-0146]

Privacy Act of 1974; System of Records

AGENCY: Office of the Secretary, DoD.

ACTION: Notice to delete a system of records.

SUMMARY: The Office of the Secretary of Defense is proposing to delete the DUSDA 02 systems of records notice from its existing inventory of record systems subject to the Privacy Act of 1974, (5 U.S.C. 552a), as amended.

DATES: This proposed action will be effective without further notice on November 12, 2009 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-6830.

SUPPLEMENTARY INFORMATION: The Office of the Secretary of Defense systems of records notices subject to the Privacy Act of 1974, (5 U.S.C. 552a), as amended, have been published in the Federal Register and are available from the address above.

The Office of the Secretary of Defense proposes to delete a system of records notice from its inventory of record systems subject to the Privacy Act of 1974 (5 U.S.C. 552a), as amended. The proposed deletion is not within the purview of subsection (r) of the Privacy Act of 1974, (5 U.S.C. 552a), as amended, which requires the submission of a new or altered system report.

Dated: October 6, 2009.
Patricia L. Toppings,
OSD Federal Register Liaison Officer, Department of Defense.

Deletion:

DUSDA 02

SYSTEM NAME:

Personnel Administration Files (February 22, 1993, 58 FR 10227).

REASON:

Based on a recent review of DUSDA 02, it was determined that this system of records is covered under the Government-wide SORNs, OPM Govt—1 (General Personnel Records) and OPM Govt—5. DUSDA 02 is duplicative and can therefore be deleted.

[FR Doc. E9-24506 Filed 10-9-09; 8:45 am]

BILLING CODE 5001-06-P